DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Cross-Site Assessment of the Residential Treatment for Pregnant and Postpartum Women (PPW), Their Minor Children and Family Program—(OMB No. 0930-0269)—Revision

The Substance Abuse and Mental Health Services Administration (SAMHSA), Center for Substance Abuse Treatment (CSAT), has funded additional Services Grants for Residential Treatment for Pregnant and Postpartum Women (PPW). The primary purpose of the PPW Program is to provide cost-effective, comprehensive residential substance abuse treatment services for women and their minor children that can be sustained over time. Based on six-month data collection experience gained during training on the cross-site process and instrument administration and data collection with the six projects in the 2003 (first) cohort of this Assessment and feedback from project and assessment staff, the following modifications are proposed: (1) To implement modifications to the instruments; (2) to replace the 12-month post-intake data collection wave with a 6-month post-discharge data collection wave to ensure that post-discharge data is collected on all women (as some may still be in residential treatment at 12 months) and because it is important to collect post-discharge outcome data for all women—especially over a uniform interval (i.e., 6 months); (3) to increase the number of sites and participants involved in this Cross-site Assessment; and, (4) to increase the target population to ensure that the PPW program is more family-centered, as required in Congressional budget language for the PPW program for 2006.

Section 508 [290bb-1] of the Public Health Service Act, as amended, mandates the evaluation and dissemination of findings of residential treatment programs for pregnant and postpartum women. This cross-site accountability assessment will assess project activities implemented for these services. The data collection instruments will be used for program and treatment planning and for this cross-site accountability assessment. The following interview instruments will be administered to mothers:

1. Child Data Collection Tool, Part 1 (child's demographic background) and Part 2 (child's medical background) administered within 30 days of the mother's intake or the child's birth for each of the woman's estimated 4 children;

2. Allen Barriers to Treatment Instrument;

3. Ferrans and Powers Quality of Life Index© Generic Version—III;

4. BASIS-24® (first cohort used BASIS-32®)—behavioral health assessment;

5. Child Well-Being Scales;

6. Family Recovery Support Services Tool; and

7. GPRA at 6-months post-discharge.

The Family Recovery Support Services Tool is a new tool that will assess the level of services received by the women, the children, and family members at 6-months post-intake, at discharge, and at 6 months post-discharge. The Ferrans and Powers Quality of Life Index© Generic Version-III will collect information from women and their partners/children's fathers on overall family satisfaction including the woman's satisfaction with her partner and the emotional support she receives from her family.

For all children under 18 years, program staff will collect information from observation and interview. Children's data collection tools include the following:

1. Denver Developmental Screening Inventory II (ages 0 to 6 years, 0 days);

2. Middle Childhood Developmental Assessment Guide (ages 6 to 10);

3. Adolescent Childhood Development Assessment Guide (ages 11 to 17); and

4. CRAFFT substance abuse screening instrument (ages 11-17).

In addition, records review will be conducted by program staff on all program participants using:

1. Women's Medical Record Audit and the Child's Medical Record Audit or the Newborn's Medical Record Audit (at delivery); and

2. Women's Discharge Tool and the Children's Discharge Tool at discharge only.

All data will be collected using a combination of observation, records review, self-administered paper-and-pencil questionnaires, and personal interviews. CSAT will use this data for this Assessment to inform public policy, research, and programming as they relate to the provision of women's services. Data produced by this study will provide direction to the type of technical assistance that will be required by service providers of women's programming. In addition, the data will be used by individual grantees to support progress report efforts.

The following table shows the estimated annual response burden for this collection.

Total Annual Respondent Burden
Instrument | Number of respondents | Responses per respondent | Total responses | Hours per response | Total hour burden
Annual Burden for Interviews of the Mothers
Child Data Collection Tool ᵃ | 321 | 4 | 1,284 | 0.75 | 963
Allen Barriers to Treatment ᵇ | 321 | 4 | 1,284 | 0.25 | 321
Ferrans and Powers Quality of Life Index ᵇ | 321 | 4 | 1,284 | 0.25 | 321
BASIS 24® ᵇ | 321 | 4 | 1,284 | 0.17 | 218
Child Well-Being Scales (age 0 to 17) ᶜ | 321 | 20 (5 times, ≤ 4 settings) | 6,420 | 0.33 | 2,119
Family Recovery Support Services Tool ᵈ | 321 | 3 | 963 | 0.25 | 241
GPRA at 6-months post-discharge | 321 | 1 | 321 | 0.33 | 106
Total for Mothers | 321 |  | 12,840 |  | 4,289
Annual Burden for Interviews of the Partners/Fathers
Ferrans and Powers Quality of Life Index ᵉ | 642 | 1 | 642 | 0.25 | 161
Total for Family Members | 642 |  | 642 |  | 161
Annual Burden for Interviews of the Minor Children
Denver Developmental Screening Inventory II (age 0 to 6 years) ᶠ | 770 | 5 | 3,850 | 0.50 | 1,925
Middle Childhood Developmental Assessment Guide (age 6 to 10) ᵍ | 257 | 5 | 1,285 | 0.33 | 424
Adolescent Childhood Developmental Assessment Guide (age 11 to 17) ʰ | 257 | 5 | 1,285 | 0.33 | 424
CRAFFT (age 11 to 17) ʰ | 257 | 5 | 1,285 | 0.17 | 218
Total for Minor Children | 1,284 | 5 | 7,705 |  | 2,991
Annual Burden for Records Review by Staff
Women's Medical Record Audit | 8 | 120 (40 women, 3 times) | 960 | 0.25 | 240
Children's Medical Record Audit | 8 | 600 (117 intakes; 1,284 followups, 3 times = 483) | 4,800 | 0.25 | 1,200
Newborn's Medical Record Audit | 8 | 43 | 344 | 0.08 | 28
Women's Discharge Tool ⁱ | 8 | 40 | 320 | 0.58 | 186
Children's Discharge Tool ʲ | 8 | 161 | 1,288 | 0.58 | 747
Total for Staff | 8 |  | 7,712 |  | 2,401
Total | 2,255 |  | 28,899 |  | 9,842
ᵃ Based on intake interviews of 321 mothers regarding each of her estimated 4 children.
ᵇ Based on interviews with 321 mothers at intake, 6 months, discharge, and 6 months post-discharge.
ᶜ Based on interviews of 321 mothers (and observation of them interacting with their children) with regard to the setting in which each of her estimated 4 children lives. If all children live in the same setting, then the instrument is only completed once. This instrument is completed according to the children's data collection schedule—that is, at intake/delivery, 3 months, 6 months, discharge, and 6 months post-discharge.
ᵈ Based on 321 mothers at 6 months post-intake, at discharge, and 6 months post discharge
ᵉ Based on 2 family members responding, on average, for each of 321 women.
ᶠ Based on 60% of 1,284 minor children ages 0 to 6 at intake or delivery, 3 months, 6 months, discharge, and at 6-months post-discharge.
ᵍ Based on 20% of 1,284 minor children ages 6 to 10 years at intake, 3 months, 6 months, discharge, and 6-months post-discharge.
ʰ Based on 20% of 1,284 minor children ages 11 to 17 at intake, 3 months, 6 months, discharge, and 6-months post-discharge.
ⁱ Based on treatment records review on all mothers at discharge. The instrument is completed for all women who entered treatment regardless of treatment completion rate.
ʲ Based on treatment records review on all minor children at discharge. The discharge instrument is completed for all minor children who entered treatment regardless of treatment completion rate.

Written comments and recommendations concerning the proposed information collection should be sent by October 12, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: September 7, 2007.
Elaine Parry,
Acting Director, Office of Program Services.

[FR Doc. E7-17998 Filed 9-11-07; 8:45 am]

BILLING CODE 4162-20-P